DEPARTMENT OF COMMERCE

National Oceanic and Atmospheric Administration

50 CFR Part 660

[I.D. 051900D]

Western Pacific Fishery Management Council; Public Meeting

AGENCY: National Marine Fisheries Service (NMFS), National Oceanic and Atmospheric Administration (NOAA), Commerce.

ACTION: Notice of public meeting/public hearings.

SUMMARY: The Western Pacific Fishery Management Council (Council) will hold its 104th meeting June 13 through June 16, 2000, in Makena, HI. Public hearings will be held on criteria to allow new entry into the Mau Zone limited entry bottomfish fishery in the Northwest Hawaiian Islands (NWHI) and on amendments to the Bottomfish and Seamount Groundfish, Crustaceans, and Precious Corals Fishery Management Plans (FMPs).

DATES: The Council's Standing Committees will meet on June 13, 2000. The full Council meeting will be held on June 14-16, 2000, from 8:30 a.m. to 5 p.m. The public hearings will be held on June 16, 2000. See SUPPLEMENTARY INFORMATION for specific dates and times for these meetings and the hearings.

ADDRESSES: The Council meeting will be held at the Prince Ballroom at the Maui Prince Hotel, 5415 Makena Alanui, Makena, HI 96753; telephone 808-874-1111. Copies of documents that provide information on options to be discussed at the public hearings are available from the Western Pacific Fishery Management Council, 1164 Bishop St., Suite 1400, Honolulu, HI, 96813.

FOR FURTHER INFORMATION CONTACT: Kitty M. Simonds, Executive Director; telephone 808-522-8220.

SUPPLEMENTARY INFORMATION:

Dates and Times

Committee Meetings

The following Standing Committees of the Council will meet on June 13, 2000. Enforcement/Vessel Monitoring System (including meeting with industry) from 7:30 a.m. to 9:30 a.m.; International Fisheries/Pelagics from 9:30 a.m. to 11:30 a.m.; Executive/Budget and Program from 11:30 a.m. to 1:30 p.m.; Precious Corals from 1:30 p.m. to 3 p.m.; Crustaceans from 1:30 p.m. to 3 p.m.; Bottomfish from 3 p.m. to 4:30 p.m; Ecosystem and Habitat from 3 p.m. to 4:30 p.m.; Fishery Rights of Indigenous People from 4:30 p.m. to 5:30 p.m.; and Joint Bottomfish, Crustacean, Ecosystem and Habitat, Precious Corals, and Fishery Rights of Indigenous People from 5:30 p.m. to 6:30 p.m.

Public Hearings

The public hearing on new entry crtieria for the Mau Zone bottomfish fishery will be held on Friday, June 16, 2000, at 9:30 a.m. The public hearing on amendments to the Bottomfish and Seamount Groundfish, Crustaceans, and Precious Corals FMPs will be held on June 16, 2000, at 2 p.m.

The agenda during the full Council meeting will include the items listed. In addition, the Council will hear recommendations from its advisory panels, plan teams, scientific and statistical committee, and other ad hoc groups. The order in which agenda items are addressed may change. The Council will meet as late as necessary to complete scheduled business.

Agenda

1. Introductions

2. Approval of Agenda

3. Approval of 103rd Meeting Minutes

4. Island Reports

A. American Samoa

B. Guam

C. Hawaii

D. Commonwealth of the Northern Mariana Islands (CNMI)

5. Fishery Agency and Organization Reports

A. Department of Commerce

(1) NMFS

(a) Southwest Region, Pacific Island Area Office

(b) Southwest Fisheries Science Center, La Jolla and Honolulu Laboratories

(2) NOAA General Counsel, Southwest Region

B. Department of the Interior

(1) U.S. Fish and Wildlife Service (FWS)

6. Enforcement

A. U.S. Coast Guard activities

B. NMFS activities

C. Commonwealth, Territories, and State Activities

D. Cooperative agreements for Guam/CNMI

E. Status of violations

7. Vessel Monitoring System (VMS)

A. Regional VMS report

B. National VMS efforts

C. Report on Forum Fisheries Agency's VMS program

8. Ecosystems and Habitat

A. Federal and state initiatives

(1) U.S. Coral Reef Task Force National Action Plan

(2) Congressional coral reef bills

(3) Federal agencies (NMFS, FWS)

(4) Local agencies (American Samoa, Guam, Hawaii, CNMI)

B. Habitat issues

(1) Tern Island (French Frigate Shoals)

(2) Midway

(3) Research (including the DeepWorker subs)

C. Advisory body comments on the Coral Reef Ecosystem FMP preferred alternatives

(1) Coral Reef Ecosystem Plan Team

(2) Ecosystem and Habitat Advisory Panel

(3) Bottomfish Plan Team/Advisory Panel

(4) Crustaceans Plan Team/Advisory Panel

(5) Precious Corals Plan Team/Advisory Panel

(6) Native and Indigenous Rights Advisory Panel

D. Organization of coral reef FMP

E. Other issues

9. Fishery Rights of Indigenous People

A. Status of Marine Conservation Plans

B. Status of Community Development Program/Demonstration Projects, including eligibility criteria

C. Pelagic and crustacean limited entry permits for Community Development Program

D. Access to Military Shore Installations

10. Pelagic Fisheries

A. 1st quarter 2000 Hawaii and American Samoa longline fishery report

B. Island Issues

(1) Status of American Samoa framework measure

(2) Domestic fishery development—S-K preliminary results

C. Shark management (1) Shark catch and disposition in 1st Quarter of 2000 in the Hawaii Longline fishery

(2) Blue shark stock assessment

(3) Cultural study of sharks and shark fishing in the Western Pacific (WP) Region

(4) Pelagic FMP amendment for shark management

(5) State of Hawaii legislation for shark finning

(6) State of Hawaii management of shark fishing

(7) Shark management in rest of WP Region

(8) Federal shark fin legislation

(9) Blue Shark Utilization

(10) Research priorities

D. Seabird management

(1) Status of FMP amendment to mitigate seabird take

(2) Status of the Biological Opnion on Short-tailed Albatross take

E. Sea turtle management

(1) Status of litigation

(2) Environmental Assessment

(3) Federal import embargoes related to incidental sea turtle catches

(4) Turtle research/Azores project update

(5) Observer program

F. International

(1) Outcome of Multilatteral High Level Conference 6

(2) Tongan Highly Migratory Species Fishery Management

Plans

G. Purse seining in the Central Western Pacific and untethered Fish Aggregation Device fishing

11. Bottomfish Fisheries

A. 1999 Annual Report/Status of the fishery

B. New entry criteria for Mau Zone

C. Status of Litigation

D. Research Plan

E. Public hearing on new entry criteria for the Mau Zone bottomfish fishery.

The Council intends to develop a framework amendment to the FMP for Bottomfish and Seamount Groundfish Fisheries of the Western Pacific Region. The amendment will establish criteria for new entry into the limited access Mau Zone bottomfish fishery in the Northwest Hawaiian Islands. In developing the framework document, the Council will consider a range of alternatives and impacts on Northwest Hawaiian Island bottomfish fishery. Currently, there are no Federal regulations that specify how new permits are to be issued in the Mau Zone once the number of vessels in the Zone falls below the target number, which is now established at 10 permits. The Council seeks to solicit public comment and input on eligibility criteria including but not limited to the following: weighted point system based on past participation in the main and NWHI, free and limited transferability of permits, and a lottery system.

12. Crustacean Fisheries

A. Draft 1999 Annual Report

B. 2000 NWHI lobster fishery/harvest guidelines/population assessment

C. Consideration of amendment to replace lobster assessment model

D. Research plans

E. Possible additions to Crustaceans management unit species (e.g., deepwater shrimp, crabs)

F. Status of litigation

(1) Experimental Fishing Permit

13. Precious Corals

A. Status of framework amendment

B. Stock monitoring

C. Research plans (NWHI DeepWorker sub surveys)

D. American Deepwater Engineering requests

(1) Revise quotas for selective gear harvest

(2) Expand beds based on new data

14. Program Planning

A. Sustainable Fishery Act amendment revisions

(1) Bycatch (bottomfish, pelagics)

(2) Overfishing (bottomfish, crustaceans, pelagics)

(3) Fishing communities

(4) Plan Team recommendations

B. Draft amendments to include CNMI and Pacific Remote Island Areas (PRIA) in the bottomfish, precious corals and crustaceans FMPs

C. Magnuson-Stevens Fishery Conservation and Management Act (Magnuson-Stevens Act) Changes

D. Marine debris conference/update

E. Palmyra Atoll

F. Report on program planning initiatives G. Advisory Panel modifications

H. Western Pacific Fisheries Information Network/Fisheries Data Coordinating Committee

I. Recreational Fisheries Data Task Force

J. Public hearing on amendments to include CNMI and PRIA in the bottomfish, precious corals and crustaceans FMPs

The Council intends to develop amendments to the Bottomfish and Seamount Groundfish, Crustaceans, and Precious Corals FMPs. In developing these amendments, the Council will consider a range of alternatives and impacts for management of bottomfish, crustaceans and precious corals fisheries of PRIA and CNMI. The PRIA is defined as Kingman Reef, Johnston Atoll, Palmyra Atoll, and Howland, Baker, Jarvis, Wake, and Midway islands. The Council is evaluating the need to amend the bottomfish, crustaceans and precious corals FMPs to better achieve the management objectives of these FMPs. Currently, no Federal regulations are in place to manage the bottomfish, crustacean and precious coral fishery resources in the Exclusive Economic Zone (EEZ) waters surrounding the CNMI. There are also no Federal regulations in place for the bottomfish and crustacean fisheries in EEZ waters surrounding PRIA. The amendments will be developed by considering a wide range of management alternatives to address data short falls and possible impacts from the bottomfish, crustacean, and precious coral fisheries in PRIA and CNMI. The Council seeks public comment and input on a wide range of management alternatives, including but not limited to the following: Prohibit the use of destructive fishing techniques including the use of explosives, poisons, bottom-set gillnets, bottom trawls, and tangle nets; additions to the managed species list; Federal permit and data reporting requirements; limited access; observer programs; gear restrictions; size limits; catch quotas; and the designation of essential fish habitat.

15. Administrative Matters

A. Administrative reports

B. Advisory body membership changes

C. Meetings and workshops D. 105th Council Meeting in Midway

16. Other Business

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council's intent to take final action to address the emergency.

Special Accommodations

This meeting is physically accessible to people with disabilities. Requests for sign language interpretation or other auxiliary aids should be directed to Kitty M. Simonds, 808-522-8220 (voice) or 808-522-8226 (fax), at least 5 days prior to meeting date.

Authority: 1801 et seq.

Dated: May 24, 2000.
Richard W. Surdi,
Acting Director, Office of Sustainable Fisheries, National Marine Fisheries Service.

[FR Doc. 00-13459 Filed 5-26-00; 8:45 am]

BILLING CODE 3510-22-F